DEPARTMENT OF HEALTH AND HUMAN SERVICES

National Institutes of Health

National Institute of General Medical Sciences; Amended Notice of Meeting

Notice is hereby given of a change in the meeting of the National Institute of General Medical Sciences Special Emphasis Panel, October 11, 2013, 8:00 a.m. to October 11, 2013, 5:00 p.m., Hyatt Regency Bethesda, One Bethesda Metro Center, 7400 Wisconsin Avenue, Bethesda, MD 20814 which was published in the Federal Register on September 25, 2013, 78 FR 59040.

The date of the meeting has been changed to December 19, 2013, 8:00 a.m. to 5:00 p.m. The location remains the same. The meeting is closed to the public.

Dated: November 20, 2013.
Melanie J. Gray,
Program Analyst, Office of Federal Advisory Committee Policy.

[FR Doc. 2013-28265 Filed 11-25-13; 8:45 am]

BILLING CODE 4140-01-P